DEPARTMENT OF ENERGY

Federal Energy Regulatory Commission

Combined Notice of Filings #1

Take notice that the Commission received the following electric rate filings:

Docket Numbers:ER20-1828-004.

Applicants:PacifiCorp.

Description:Compliance filing: OATT Order 864 Compliance Filing—June 2022 to be effective 1/27/2020.

Filed Date:6/6/22.

Accession Number:20220606-5193.

Comment Date:5 p.m. ET 6/27/22.

Docket Numbers:ER22-1003-002.

Applicants:Southwestern Public Service Company.

Description:Tariff Amendment: LPL Second Amended PR Agreement Amendment to be effective 2/9/2022.

Filed Date:6/6/22.

Accession Number:20220606-5036.

Comment Date:5 p.m. ET 6/27/22.

Docket Numbers:ER22-1361-000.

Applicants:Georgia-Pacific Toledo LLC.

Description:Refund Report: Refund Report to be effective N/A.

Filed Date:6/6/22.

Accession Number:20220606-5114.

Comment Date:5 p.m. ET 6/27/22.

Docket Numbers:ER22-1566-001.

Applicants:Guernsey Power Station LLC.

Description:Guernsey Power Station LLC submits request for the Market-Based Rate Tariff to have an effective date of May 16, 2022 and request a waiver of the Commission's prior notice requirements set forth in 18 CFR 35.3 and 35.11 (2021).

Filed Date:5/25/22.

Accession Number:20220525-5287.

Comment Date:5 p.m. ET 6/15/22.

Docket Numbers:ER22-1571-002.

Applicants:NextEra Energy Transmission New York, Inc., New York Independent System Operator, Inc.

Description:Tariff Amendment: NextEra Energy Transmission New York, Inc. submits tariff filing per 35.17(b): NEET NY Second Amendment to Formula Rate Revisions to be effective 6/1/2022.

Filed Date:6/6/22.

Accession Number:20220606-5070.

Comment Date:5 p.m. ET 6/27/22.

Docket Numbers:ER22-2029-000.

Applicants:PJM Interconnection, L.L.C.

Description:§ 205(d) Rate Filing: Revisions to PJM's FTR Credit Requirement to be effective 8/3/2022.

Filed Date:6/3/22.

Accession Number:20220603-5207.

Comment Date:5 p.m. ET 6/24/22.

Docket Numbers:ER22-2030-000.

Applicants:Sonoran West Solar Holdings, LLC.

Description:Baseline eTariff Filing: Baseline new to be effective 6/4/2022.

Filed Date:6/3/22.

Accession Number:20220603-5211.

Comment Date:5 p.m. ET 6/24/22.

Docket Numbers:ER22-2031-000.

Applicants:Sonoran West Solar Holdings 2, LLC.

Description:Baseline eTariff Filing: Baseline new to be effective 6/4/2022.

Filed Date:6/3/22.

Accession Number:20220603-5214.

Comment Date:5 p.m. ET 6/24/22.

Docket Numbers:ER22-2032-000.

Applicants:Niagara Mohawk Power Corporation, New York Independent System Operator, Inc.

Description:§ 205(d) Rate Filing: Niagara Mohawk Power Corporation submits tariff filing per 35.13(a)(2)(iii: NYISO-National Grid joint 205 Amended & Restated SGIA2554 Albany County 1 Solar to be effective 5/20/2022.

Filed Date:6/6/22.

Accession Number:20220606-5091.

Comment Date:5 p.m. ET 6/27/22.

Docket Numbers:ER22-2033-000.

Applicants:PJM Interconnection, L.L.C.

Description:§ 205(d) Rate Filing: Revised ISA, Service Agreement No. 5861; Queue Nos. AF2-305/AG1-398 to be effective 5/13/2022.

Filed Date:6/6/22.

Accession Number:20220606-5093.

Comment Date:5 p.m. ET 6/27/22.

Docket Numbers:ER22-2034-000.

Applicants:Midcontinent Independent System Operator, Inc.

Description:§ 205(d) Rate Filing: 2022-06-06_SA 3372 Entergy Louisiana-Oak Ridge Solar 1st Rev GIA (J697 J1436) to be effective 5/20/2022.

Filed Date:6/6/22.

Accession Number:20220606-5127.

Comment Date:5 p.m. ET 6/27/22.

Docket Numbers:ER22-2035-000.

Applicants:Arizona Public Service Company.

Description:§ 205(d) Rate Filing: Service Agreement No. 400, CAWCD LGIA to be effective 5/12/2022.

Filed Date:6/6/22.

Accession Number:20220606-5134.

Comment Date:5 p.m. ET 6/27/22

Docket Numbers:ER22-2036-000.

Applicants:Niagara Mohawk Power Corporation, New York Independent System Operator, Inc.

Description:§ 205(d) Rate Filing: Niagara Mohawk Power Corporation submits tariff filing per 35.13(a)(2)(iii: NYISO-National Grid joint 205 SGIA2555 Albany County 2 Solar to be effective 5/20/2022.

Filed Date:6/6/22.

Accession Number:20220606-5151.

Comment Date:5 p.m. ET 6/27/22.

Docket Numbers:ER22-2037-000.

Applicants:States Edge Wind I Holdings LLC.

Description:Tariff Amendment: Notice of Cancellation of Market-Based Rate Tariff to be effective 8/6/2022.

Filed Date:6/6/22.

Accession Number:20220606-5167.

Comment Date:5 p.m. ET 6/27/22.

Docket Numbers:ER22-2038-000.

Applicants:New England Power Company.

Description:§ 205(d) Rate Filing: 2022-06-06 Interconnection Agreement Between NEP and Narragansett Electric Co. to be effective 5/25/2022.

Filed Date:6/6/22.

Accession Number:20220606-5169.

Comment Date:5 p.m. ET 6/27/22.

Docket Numbers:ER22-2039-000.

Applicants:The Narragansett Electric Company.

Description:§ 205(d) Rate Filing: 2022-06-06 Interconnection Agreement Between Narragansett Electric Co. and NEP to be effective 5/25/2022.

Filed Date:6/6/22.

Accession Number:20220606-5179.

Comment Date:5 p.m. ET 6/27/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 6, 2022.
Debbie-Anne A. Reese,
Deputy Secretary.

[FR Doc. 2022-12519 Filed 6-9-22; 8:45 am]

BILLING CODE 6717-01-P